DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 21, 2001.

Interested persons are invited to submit written comments regarding the subject matter of the investigations to the Director, Division of Trade Adjustment Assistance, at the address shown below, not later than May 21, 2001.

The petitions filed in this case are available for inspection at the Office of the Director, Division of Trade Adjustment Assistance, Employment and Training Administration, U.S. Department of Labor, Room C-5311, 200 Constitution Avenue, NW., Washington, DC 20210.

Signed at Washington, DC this 9th day of April, 2001.
Edward A. Tomchick,
Director, Division of Trade Adjustment Assistance.

Appendix_Petitions Instituted on 04/09/2001

TA-W | Subject firm (petitioners) | Location | Date of petition | Product(s)
38,967 | Conexant (Wkrs) | El Paso, TX | 03/22/2001 | Modems.
38,968 | Lincoln Brass Works (Co.) | Waynesboro, TN | 03/01/2001 | Gas valves.
38,969 | Textron Golf, Turf Care (UAW) | Racine, WI | 03/14/2001 | Turf care equipment.
38,970 | Superior Lumber (Wkrs) | Glendale, OR | 03/13/2001 | Plywood.
38,971 | William Carter Co. (The) (Wkrs) | Harlingen, TX | 03/23/2001 | Children's clothing.
38,972 | KoSa (Co.) | Shelby, NC | 03/22/2001 | Polyester textile filament yarn.
38,973 | Robinson Fiddler's Green (CWAUIE) | Springville, NY | 03/12/2001 | Kitchen ware.
38,974 | Randy Industries, Inc. (Co.) | New York, NY | 03/26/2001 | Children's sportswear.
38,975 | Fox River Paper Co. (USWA) | Vicksbury, MI | 03/22/2001 | Text and cover paper, writing paper.
38,976 | Cummins Power Generation (Co.) | St. Peter, MN | 03/20/2001 | Transfer switches for generators.
38,977 | Doe Run Company (The) (Co.) | Herculaneum, MO | 03/16/2001 | Lead.
38,978 | AmeriCo (Co.) | New York, NY | 01/02/2001 | Sports Clothing.
38,979 | SKF USA (Wkrs) | Bethlehem, PA | 03/21/2001 | Bearing seals.
38,980 | Orion Bus Industries (UAW) | Oriskany, NY | 03/22/2001 | Transit buses.
38,981 | Equatorial Tonopah, Inc. (Co.) | Tonopah, NV | 03/21/2001 | Copper cathode.
38,982 | Lyons Falls Pulp & Paper (PACE) | Lyons Falls, NY | 02/28/2001 | Paper and pulp.
38,983 | Zapata Technologies (Wkrs) | Hazelton, PA | 02/14/2001 | Bottle cap manufacturing machinery.
38,984 | AVX Tantalum Corp. (Wkrs) | Biddeford, ME | 03/27/2001 | Tantalum capacitors.
38,985 | Dunbrooke Industries (Co.) | Orange City, IA | 03/23/2001 | Shirts and jackets.
38,986 | Gilda Activewear (Wkrs) | Miami, FL | 03/29/2001 | Activewear.
38,987 | Gigi of Carolina (Wkrs) | Cherryville, NC | 03/22/2001 | Knitted ladies' sweaters.
38,988 | Delta Dental Plan of MN (Wkrs) | Eagan, MN | 03/27/2001 | Dental insurance.
38,989 | Trico Steel (Wkrs) | Decatur, AL | 03/23/2001 | Hot rolled steel coils.
38,990 | Ami Candle, Inc. (Wkrs) | Fall River, MA | 03/24/2001 | Taper, pillar and votive candles.
38,991 | VF Imagewear (West) (Co.) | Nashville, TN | 03/09/2001 | Men's & ladies' work clothing.
38,992 | Coastal Machnery (IAMAW) | Portland, OR | 03/23/2001 | Lumber planer machines.
38,993 | Jake Shook Logging (Co.) | Newcastle, WY | 03/13/2001 | Logs.
38,994 | Irwin Manufacturing Corp. (Co.) | Ocilla, GA | 03/26/2001 | Crib bedding.
38,995 | Penn Metal Stamping (Wkrs) | St. Marys, PA | 03/27/2001 | Automotive parts.
38,996 | Kellwood New England (Co.) | Brockton, MA | 03/27/2001 | Ladies' woven and knit apparel.
38,997 | Emsig Corporation (UNITE) | Villas, NJ | 03/26/2001 | Buttons.
38,998 | Dye Works, Inc. (Co.) | Trenton, NJ | 03/21/2001 | Wet processing of garments.
38,999 | Detroit Tool (Wkrs) | Lebanon, MO | 03/26/2001 | Tooling, die work, special machines.
39,000 | American Nickeloid Co. (USWA) | Walnutport, PA | 03/26/2001 | Crome, Nickel, copper plated steel.
39,001 | Accuride International (Co.) | Charlotte, NC | 03/23/2001 | Metal drawer slides.
39,002 | Ohio Moulding Corp. (UAW) | Wickliffe, OH | 03/20/2001 | Moulding.
39,003 | Cajun Bag and Supply (Co.) | Rayne, LA | 03/23/2001 | Flexible bulk containers.
39,004 | AgriFrozen (IBT) | Grandview, WA | 03/23/2001 | Frozen vegetabales.
39,005 | Rayovac Corp. (Wkrs) | Fennimore, WI | 02/21/2001 | Alkaline batteries.
39,006 | ASF Keystone (USWA) | East Chicago, IN | 03/22/2001 | Railroad cars.
39,007 | Fruit of the Loom (Co.) | Jacksonville, AL | 03/26/2001 | Spinning of yarn.
39,008 | Camrose Technologies (Wkrs) | Ada, OK | 04/02/2001 | Door handles.
39,009 | Astaris, LLC (IAM) | Pocatello, ID | 04/02/2001 | Elemental phosphorus.

[FR Doc. 01-11624 Filed 5-8-01; 8:45 am]

BILLING CODE 4510-30-M